NATIONAL SCIENCE FOUNDATION

Sunshine Act Meetings

The National Science Board hereby gives notice of the scheduling of a teleconference of the National Science Board/National Science Foundation Commission on Merit Review (MRX) and a teleconference of a joint meeting of the National Science Board's Committee on Strategy (CS) and Committee on Awards and Facilities (A&F) for the transaction of National Science Board business pursuant to the NSF Act and the Government in the Sunshine Act.

TIME AND DATE: The MRX meeting is scheduled for Tuesday, June 18, 2024, from 4 p.m.-6 p.m. EDT.

The joint CS and A&F meeting is scheduled for Friday, June 21, 2024, from 3 p.m.-4 p.m.

PLACE: This meeting will be via videoconference through the National Science Foundation, 2415 Eisenhower Avenue, Alexandria, VA 22314.

STATUS: Closed.

MATTERS TO BE CONSIDERED: The agenda for the MRX meeting is: Commission Chair's remarks about the agenda; Discussion of Preliminary Recommendations; Update on External Data Collection Questions; Commission Chair's closing remarks.

The agenda for the joint CS and A&F meeting is: Committee Chairs' Opening Remarks about the Agenda; Discussion of Long-term Planning and FY 2026 Budget Development.

CONTACT PERSON FOR MORE INFORMATION: Point of contact for this meeting is: Chris Blair, cblair@nsf.gov, 703/292-7000. Meeting information and updates may be found at www.nsf.gov/nsb.

Ann E. Bushmiller,
Senior Counsel to the National Science Board Office.

[FR Doc. 2024-13305 Filed 6-12-24; 4:15 pm]

BILLING CODE 7555-01-P